ENVIRONMENTAL PROTECTION AGENCY

[EPA-HQ-OPP-2008-0102; FRL-8392-5]

Exposure Modeling Public Meeting; Notice of Public Meeting

AGENCY: Environmental Protection Agency (EPA).

ACTION: Notice.

SUMMARY: An Exposure Modeling Public Meeting (EMPM) will be held for one day on December 9, 2008. This notice announces the location and time for the meeting and sets forth the tentative agenda topics.

DATES: The meeting will be held on December 9, 2008 from 9:00 am to 4:00 pm.

To request accommodation of a disability, please contact the person listed under FOR FURTHER INFORMATON CONTACT, preferably at least 10 days prior to the meeting, to give EPA as much time as possible to process your request.

ADDRESSES: The meeting will be held at Environmental Protection Agency, Office of Pesticide Programs (OPP), One Potomac Yard (South Building), 1st Floor South Conference Room, 2777 S. Crystal Drive, Arlington, VA 22202.

FOR FURTHER INFORMATION CONTACT: Stephen Wente, Environmental Fate and Effects Division (7507P), Office of Pesticide Programs, Environmental Protection Agency, 1200 Pennsylvania Ave., NW., Washington, DC 20460-0001; telephone number: (703) 305-0001; fax number: (703) 305-6309; e-mail address: wente.stephen@epa.gov.

SUPPLEMENTARY INFORMATION:

I. General Information

A. Does this Action Apply to Me?

You may be potentially affected by this action if you are required to conduct testing of chemical substances under the Toxic Substances Control Act (TSCA), the Federal Food, Drug and Cosmetic Act (FFDCA), or the Federal Insecticide, Fungicide, and Rodenticide Act (FIFRA). Since other entities may also be interested, the Agency has not attempted to describe all the specific entities that may be affected by this action. If you have nay questions regarding the applicability of this action to a particular entity, consult the person listed under FOR FURTHER INFORMATION CONTACT.

B. How Can I Get Copies of this Document and Other Related Information

?

1. Docket. EPA has established a docket for this action under docket ID number EPA-HQ-OPP-2008-0102. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

On a triannual interval, an Exposure Modeling Public Meeting will be held for presentation and discussion of current issues in modeling pesticide fate, transport, and exposure in support of risk assessment in a regulatory context. Meeting dates and abstract requests are announced through the “empmlist” forum on the LYRIS list server at https://lists.epa.gov/read/all_forums/.

III. How Can I Request to Participate in this Meeting?

You may submit a request to participate in this meeting to the person listed under FOR FURTHER INFORMATION CONTACT. Do not submit any information in your request that is considered CBI. Requests to participate in the meeting, identified by docket ID number EPA-HQ-OPP-2008-0102, must be received on or before December 18, 2008.

IV. Tentative Topics for the Meeting

General Theme: Riparian Zone Modeling and Best Management Practices

Specific Topics:

Riparian Ecosystem Management Model (REMM)

Comparative Modeling of Soil and Water Assessment Tool (SWAT) and REMM

REMM and Turf Modeling

Agricultural Policy EXtender (APEX) Model

Best Management Practices (BMP) Assessment Tools

List of Subjects

Environmental protection, Modeling, Model, Best Management Practices, Ecosystem, Pesticides.

Dated: November 11, 2008.
Donald J. Brady,
Director, Environmental Fate and Effects Division, Office of Pesticide Programs.

[FR Doc. E8-28665 Filed 12-2-08; 8:45 am]

BILLING CODE 6560-50-S